DEPARTMENT OF COMMERCE

National Telecommunications and Information Administration

[Docket No. 070920527-9169-03]

Low Power Television and Translator Digital-to-Analog Conversion Program: Extension of Closing Date

AGENCY: National Telecommunications and Information Administration (NTIA), U.S. Department of Commerce.

ACTION: Notice of Amended Solicitation of Applications.

SUMMARY: The National Telecommunications and Information Administration (NTIA) announces that it is extending the solicitation period for grant applications for the Low Power Television and Translator Digital-to-Analog Conversion Program. Applications must be postmarked on or before Friday, June 12, 2009.

DATES: Applications for Low Power Television and Translator Digital-to-Analog Conversion Program must be postmarked on or before Friday, June 12, 2009. Applications submitted by facsimile will not be accepted.

ADDRESSES: Application forms and instructions are available on the Internet at http://www.ntia.doc.gov/lptv. To submit completed applications, or send any other correspondence, write to the Low-Power Conversion Program at the following address: LPTV, Room H-4812, U.S. Department of Commerce, 1401 Constitution Avenue, N.W., Washington, DC 20230.

FOR FURTHER INFORMATION CONTACT: William Cooperman, Director, Broadcasting Division, telephone: (202) 482-5802; fax: (202) 482-2156. Information about the Low-Power Television and Translator Digital-to-Analog Conversion Program can also be obtained electronically via the Internet at http://www.ntia.doc.gov/lptv.

SUPPLEMENTARY INFORMATION: NTIA has established the Low-Power Television and Translator Digital-to-Analog Conversion Program through which each eligible low-power television broadcast station may receive compensation toward the cost of the purchase of a digital-to-analog conversion device that enables it to convert the incoming digital signal of its corresponding full-power television station to analog format for transmission on the low-power television station's analog channel. The conversion devices are necessary so the eligible stations can continue to broadcast in analog after the digital conversion of the full-power station occurs. Without converter devices, the eligible facilities will be unable to receive the incoming off-air digital signal for conversion and rebroadcast to consumers within their coverage area. On October 29, 2007, NTIA publish a notice announcing the availability of funds for this program.¹

¹ Low-Power Television and Translator Digital-to-Analog Conversion Program, 72 Fed. Reg. 61,109 (Oct. 29, 2007), available at http://www.ntia.doc.gov/lptv/NOAF_10292007.pdf. This notice was subsequently modified in August 2008 changing application submission deadlines and processing priorities, and announcing availability of funds. Low-Power Television and Translator Digital-to-Analog Conversion Program, 73 Fed.Reg. 50,782 (Aug. 28, 2008), available at http://www.ntia.doc.gov/lptv/consumered_fr_080828.pdf.

The DTV Delay Act, enacted on February 11, 2009, extended the deadline for submission of Low-Power Television and Translator Digital-to-Analog Conversion Program grant applications from February 17, 2009, to June 12, 2009.² This provision amended section 3008(a)(1)of Digital Television Transition and Public Safety Act of 2005.³ Accordingly, NTIA publishes this notice to announce that it is extending the solicitation period for applications for the Low Power Television and Translator Digital-to-Analog Conversion Program. Any applications postmarked between February 18, 2009, and June 12, 2009, will be considered timely and will be given full consideration.

² DTV Delay Act, § 2(b)(1), P.L. 111-4, 123 Stat. 112 (2009).

³ Digital Television Transition and Public Safety Act of 2005 § 3008, 47 U.S.C. § 309 note (2008).

Applications submitted by June 12, 2009, will utilize the same forms, and undergo the same review and evaluation process contained in the Notice of Availability of Funds of October 29, 2007, as amended.⁴ NTIA has approximately $1 million available for award and will process applications on a first-come, first-served basis until the $1 million is exhausted.

⁴ See supra note 1.

Dated: February 13, 2009.
Bernadette McGuire-Rivera,
Associate Administrator, Office of Telecommunications and Information Applications.

[FR Doc. E9-3485 Filed 2-13-09; 4:15 pm]

BILLING CODE 3510-60-S